DEPARTMENT OF AGRICULTURE

Animal and Plant Health Inspection Service

[Docket No. APHIS-2011-0039]

Notice of Decision To Authorize the Importation of Fresh Apricot, Sweet Cherry, and Plumcot Fruit From South Africa Into the Continental United States

Correction

In notice document 2011-25490 appearing on pages 61340-61341 in the issue of October 4, 2011, make the following correction:

On page 61341, in the first column, in the DATES section, “November 3, 2011” should read “October 4, 2011”.

[FR Doc. C1-2011-25490 Filed 10-12-11; 8:45 am]

BILLING CODE 1505-01-P